DEPARTMENT OF ENERGY

Federal Energy Regulatory Commission

[Project No. 7274-035]

Town of Wells; Notice of Application Ready for Environmental Analysis and Soliciting Comments, Recommendations, Terms and Conditions, and Prescriptions

Take notice that the following hydroelectric application has been filed with the Commission and is available for public inspection.

a. Type of Application: Subsequent Minor License.

b. Project No.: 7274-035.

c. Date Filed: July 31, 2023.

d. Applicant: Town of Wells.

e. Name of Project: Lake Algonquin Hydroelectric Project.

f. Location: On the Sacandaga River in the town of Wells, Hamilton County, New York.

g. Filed Pursuant to: Federal Power Act, 16 U.S.C. 791(a)-825(r).

h. Applicant Contact: Matthew Taylor, Principle-in-Charge, GZA GeoEnvironmental of New York, 104 West 29th Street, 10th Floor, New York 10001; Phone at (781) 278-5803 or email at matthew.taylor@gza.com; or Beth Hunt, Supervisor, Town of Wells, P.O. Box 205, Wells, New York 12190; Phone at (518) 924-7912 or email at beth-hunt@townofwells.org.

i. FERC Contact: Samantha Pollak at (202) 502-6419, or samantha.pollak@ferc.gov.

j. Deadline for filing comments, recommendations, terms and conditions, and prescriptions: on or before 5:00 p.m. Eastern Time on August 25, 2025; ¹ reply comments are due on or before 5:00 p.m. Eastern Time October 8, 2025.

¹ The Commission's Rules of Practice and Procedure provide that if a deadline falls on a Saturday, Sunday, holiday, or other day when the Commission is closed for business, the deadline does not end until the close of business on the next business day. 18 CFR. 385.2007(a)(2). Because the 60-day filing deadline falls on Sunday (i.e., August 24, 2025), the filing deadline is extended until on or before 5:00 p.m. Eastern Time on Monday, August 25, 2025.

The Commission strongly encourages electronic filing. Please file comments, recommendations, terms and conditions, and prescriptions using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, please send a paper copy via U.S. Postal Service to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. All filings must clearly identify the project name and docket number on the first page: Lake Algonquin Hydroelectric Project (P-7274-035).

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. This application has been accepted and is ready for environmental analysis at this time.

l. The Lake Algonquin Hydroelectric Project consists of the following facilities: (1) a 239-foot-long, 26.5-foot-high concrete gravity dam composed of an ogee spillway section at each end and a gated spillway section in the middle with three steel 19-foot-wide by 12-foot-high vertical lift roller gates; (2) an impoundment with a surface area of 275 acres and a storage capacity of 2,557 acre-feet at an elevation of 986.84 feet National Geodetic Vertical Datum of 1929 (NGVD 29); (3) two dikes/low points along the reservoir rim; (4) a 27-foot-high, 21-foot-wide, 52-foot-long intake structure; (5) a buried 10-foot-diameter, 113-foot-long steel penstock; (6) a 25-foot-wide, 63-foot-long concrete, steel, and masonry powerhouse containing one turbine-generator unit with a rated capacity of 698 kilowatts; (7) a 480-volt, 65-foot-long generator lead; (8) a 480-volt/4.8-kilovolt (kV) step-up transformer; (9) a 4.8-kV, approximately 50-foot-long overhead transmission line; and (10) appurtenant facilities.

The project operates in a run-of-river mode and discharges a minimum flow of 20 cubic feet per second into the project's bypassed reach to protect aquatic resources. The project has an average annual generation of 1,363 megawatt-hours.

m. A copy of the application is available for review via the internet through the Commission's Home Page (http://www.ferc.gov), using the “eLibrary” link. Enter the docket number, excluding the last three digits in the docket number field, to access the document. For assistance, contact FERC at FERCOnlineSupport@ferc.gov or call toll free, (886) 208-3676 or TTY (202) 502-8659.

All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR. 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding in accordance with 18 CFR 4.34(b) and 385.2010.

The Commission's Office of Public Participation (OPP) supports meaningful public engagement and participation in Commission proceedings. OPP can help members of the public, including landowners, community organizations, Tribal members, and others, access publicly available information and navigate Commission processes. For public inquiries and assistance with making filings such as interventions, comments, or requests for rehearing, the public is encouraged to contact OPP at (202) 502-6595 or OPP@ferc.gov.

You may also register online at http://www.ferc.gov/docs-filing/esubscription.asp to be notified via email of new filings and issuances related to this or other pending projects. For assistance, contact FERC Online Support.

n. The applicant must file the following on or before 5:00 p.m. Eastern Time on August 25, 2025: ² (1) copy of the water quality certification; (2) a copy of the request for certification, including proof of the date on which the certifying agency received the request; or (3) evidence of a waiver of water quality certification.

² Id.

o. Final amendments to the application must be filed with the Commission on or before 5:00 p.m. Eastern Time on July 25, 2025.

Dated: June 25, 2025.
Carlos D. Clay,
Deputy Secretary.

[FR Doc. 2025-12049 Filed 6-27-25; 8:45 am]

BILLING CODE 6717-01-P